DEPARTMENT OF TRANSPORTATION

Federal Aviation Administration

Aviation Rulemaking Advisory Committee

AGENCY: Federal Aviation Administration (FAA), U.S. Department of Transportation (DOT).

ACTION: Notice; solicitation of nominations for membership.

SUMMARY: The Department solicits nominations for membership to serve on the Aviation Rulemaking Advisory Committee (ARAC), which is intended to provide information, advice, and recommendations to the Secretary of Transportation through the FAA Administrator concerning rulemaking activities, such as aircraft operations, airmen and air agency certification, airworthiness standards and certification, airports, maintenance, noise, and training.

DATES: The deadline for nominations for Committee members must be received on or before October 20, 2025.

ADDRESSES: Email all nomination materials to 9-awa-arac@faa.gov.

FOR FURTHER INFORMATION CONTACT: Aliah Duckett, Federal Aviation Administration, Office of Rulemaking, 800 Independence Avenue SW, Washington, DC 20591, 9-awa-arac@faa.gov or (202) 267-6952.

SUPPLEMENTARY INFORMATION: The Aviation Rulemaking Advisory Committee was established by the Secretary of Transportation on January 22, 1991 in accordance with the Federal Advisory Committee Act, 5 U.S.C. ch. 10. The purpose of ARAC is to provide information, advice, and recommendations to the Secretary through the FAA Administrator concerning rulemaking activities, such as aircraft operations, airmen and air agency certification, airworthiness standards and certification, airports, maintenance, noise, and training.

In particular, ARAC will provide advice and recommendations about significant safety initiatives that affect the aviation industry. The Committee is continuing, but it is subject to renewal every two years. The Committee is expected to meet three times annually. Unless otherwise required by law or approved by the Secretary, all meetings will be held virtually (or in a hybrid forum that does not require additional use of Federal funds).

In this notice, the Department is soliciting nominations for membership to the Committee. The Committee shall report to the Secretary and shall comprise approximately 30 members, representing organizations directly and indirectly impacted by FAA regulations (e.g., aircraft owners and operators, airmen and flight crewmembers, airports, aircraft maintenance providers, aircraft manufacturers, public citizens and passenger groups, training providers, and labor organizations). Members are appointed by the Secretary of Transportation. Members will serve 2-year terms but may be reappointed. Past members of the advisory committee are welcome to apply. The Department is interested in ensuring membership is balanced fairly in terms of the points of view represented and the functions to be performed by the advisory committee.

Process and Deadline for Submitting Nominations: Qualified individuals can self-nominate or be nominated by any individual or organization. To be considered for ARAC, nominators should submit the following information:

(1) Name, title, and relevant contact information (including phone, fax, and email address) of the individual requesting consideration;

(2) A letter of support from a company, union, trade association, academic, or nonprofit organization on letterhead containing a brief description of why the nominee should be considered for membership;

(3) A short biography of the nominee, including professional and academic credentials; and

(4) An affirmative statement that the nominee meets all Committee eligibility requirements and identifies which stakeholder group they would represent.

Please do not send company, trade association, or organization brochures or any other information. Materials submitted should total two pages or less. Should more information be needed, DOT staff will contact the nominee, obtain information from the nominee's past affiliations, or obtain information from publicly available sources, such as the internet.

Nominations must be received before October 20, 2025. Nominees selected for appointment to the Committee will be notified by return email and by a letter of appointment.

Issued in Washington, DC, on September 12, 2025.
Brandon Roberts,
Executive Director, Office of Rulemaking.

[FR Doc. 2025-18211 Filed 9-18-25; 8:45 am]

BILLING CODE 4910-13-P